DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 18, 2016. Address written comments to Statutory Import Programs Staff, Room 3720, U.S. Department of Commerce, Washington, DC 20230. Applications may be examined between 8:30 a.m. and 5:00 p.m. at the U.S. Department of Commerce in Room 3720.

Docket Number: 15-052. Applicant: Iowa State University of Science and Technology, 211 TASF, Ames, IA 50011-3020. Instrument: Electron Microscope. Manufacturer: FEI, Co., Czech Republic and Great Britain. Intended Use: The instrument will be used to perform microstructure examination, compositional analysis and orientation analysis on materials such as metals, compounds, alloys, oxides and organic materials. Justification for Duty-Free Entry: There are no instruments of the same general category manufactured in the United States. Application accepted by Commissioner of Customs: April 13, 2016.

Docket Number: 16-007. Applicant: University of California, Riverside, 900 University Ave., Riverside, CA 92521. Instrument: Electron Microscope. Manufacturer: FEI Company, the Netherlands. Intended Use: The instrument will be used to characterize the morphology and structure at microscopic down to atomic scale of materials and biological tissues. Justification for Duty-Free Entry: There are no instruments of the same general category manufactured in the United States. Application accepted by Commissioner of Customs: May 9, 2016.

Dated: June 21, 2016.
Gregory W. Campbell,
Director of Subsidies Enforcement, Enforcement and Compliance.

[FR Doc. 2016-15139 Filed 6-24-16; 8:45 am]

BILLING CODE 3510-DS-P